DEPARTMENT OF AGRICULTURE

Submission for OMB Review; Comment Request

November 18, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by December 23, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Rental Rates Pilot.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of select agricultural operations in three regions: Northwest (10 counties in the State of Washington), Southern Plains (10 counties in Northern Texas) and Mississippi River (10 counties in Arkansas). Each selected farmer or rancher will be asked to provide data on: (1) Non-irrigated cropland acres rented in 2019 for cash, share of crop production, or for free; (2) Dollars per acre paid in 2019 for cash rent on non-irrigated cropland acres rented; and (3) Percent share of revenue and expenditures for the renter and landowner. General authority for these data collection activities is granted under U.S.C. Title 7, Section 2204.

Need and Use of the Information: There are some areas of the country where share rental arrangements predominate, but the current cash rental rates survey (OMB Control Number 0535-0002) does not account for this arrangement. In an effort to obtain a more complete picture of rental arrangements, this pilot project is proposed. USDA-Farm Production and Conservation Mission Area (USDA-FPAC) will determine if the share rental data could potentially increase the precision of estimates in counties where share renting predominates and set annual Conservation Reserve Program (CRP) payment rates that more accurately reflect market conditions. The United States Department of Agriculture's Farm Service Agency has entered into an interagency agreement with NASS to conduct this pilot survey. If this pilot is successful, NASS will submit a change request to include share rental arrangements to the production rental rates survey for future years.

Description of Respondents: A sample of all active agricultural operations in Washington, Arkansas, and Texas.

Number of Respondents: 1,500.

Frequency of Responses: Reporting: Once a year.

Total Burden Hours: 536.

Ruth Brown,
Departmental Information Collection Clearance Officer.

[FR Doc. 2019-25228 Filed 11-20-19; 8:45 am]

BILLING CODE 3410-20-P